DEPARTMENT OF AGRICULTURE

Forest Service

Angeles National Forest, California, Antelope-Pardee 500-kV Transmission Project

AGENCY: Forest Service, USDA.

ACTION: Notice of intent to prepare a joint environmental impact statement/report.

SUMMARY: Notice is hereby given that the USDA Forest Service, together with the California Public Utilities Commission (CPUC), will prepare a joint Environmental Impact Statement (EIS) and Environmental Impact Report (EIR) in response to applications received from Southern California Edison for construction of a new 25.6-mile 500-kilovolt (kV) transmission line between the proponent's existing 220-kV Antelope and Pardee substations that are located in Los Angeles County, California. The Forest Service is the lead Federal agency for the preparation of this EIS/EIR in compliance with the National Environmental Policy Act (NEPA) and all other applicable laws, executive orders, regulations, and direction. The CPUC is the lead State of California agency for the preparation of the EIS/EIR in compliance with the California Environmental Quality Act (CEQA), California Public Resource Code Division 13, and all other applicable laws and regulations. Both agencies have determined an EIS/EIR is needed to effectively analyze the proposal and evaluate impacts. The new 500-kV transmission line would replace the existing 100-foot right-of-way 66 kV-line along 17.5 miles of the proposed route. Approximately 13 miles of the Antelope-Pardee 500-kV Transmission Project would be located in a 160-foot right-of-way on National Forest System land (managed by the Angeles National Forest). Approximately three miles of the proposed project would be constructed in a new right-of-way outside of the Angeles National Forest. The proposed project also includes an expansion and upgrade of the Antelope Substation from 220 kV to 500 kV, and the relocation of several existing 66-kV subtransmission lines near the Antelope Substation. The USDA Forest Service and the CPUC invite written comments on the scope of this proposed project. In addition, the agencies give notice of this analysis so that interested and affected individuals are aware of how they may participate and contribute to the final decision.

DATES: Comments concerning the scope of the analysis must be received by July 29, 2005. Two public information and scoping meetings are proposed to provide information about the proposed project to the public and to allow people to comment on the proposed project. The draft EIS/EIR is expected in September 2005 and the final EIS/EIR is expected in December 2005.

ADDRESSES: To request a copy of the draft or final EIS/EIR and/or to send written comments, please write to the Angeles National Forest and/or California Public Utilities Commission, c/o Aspen Environmental Group, 30423 Canwood Street, Suite 215, Agoura Hills, CA 91301.

E-mail communications are also welcome; however, please remember to include your name and a return address in the email message. E-mail messages should be sent to antelope-pardee@aspeneg.com. Information about this application and the environmental review process will be posted on the Internet at: http://www.cpuc.ca.gov/environment/info/aspen/antelopepardee/antelopepardee.htm. This site will be used to post all public documents during the environmental review process and to announce up-coming public meetings.

Public meeting locations will be held at 6:30 p.m. at the following locations: Desert Inn Hotel, June 29, 2005, 44219 Sierra Highway, Lancaster, CA 93534; and Santa Clarita Activity Center, July 14, 2005, 20880 Centre Point Parkway, Santa Clarita, CA 91350.

FOR FURTHER INFORMATION CONTACT: For additional information related to the project on National Forest System land, contact Marian Kadota, Planning Forester, Forest Service, 6755 Hollister Avenue, Suite 150, Goleta, CA 93117; phone: (805) 961-5732. For additional information related to the project on non-National Forest System land, contact John Boccio, California Public Utilities Commission, 505 Van Ness Avenue, San Francisco, CA 94102; phone: (415) 703-2641. Project information can also be requested by leaving a voice message or sending a fax to the Project Information Hotline at (661) 215-5152.

SUPPLEMENTARY INFORMATION:

Proposed Action

Southern California Edison would construct, use, and maintain a new 25.6-mile 500-kV transmission line between the proponent's existing 220-kV Antelope and Pardee substations that are located in Los Angeles County, California. The proposed transmission line will cross approximately 13 miles of National Forest System land managed by the Angeles National Forest. To accomplish the proposed action, the Forest Service Responsible Official would have Southern California Edison remove a 66-kV transmission line (along with its ancillary improvements) and would authorize a 50-year term Special Use Easement for a 13-mile, 160-foot wide right-of-way, for construction, use, and maintenance of a portion of the 25.6-mile 500-kV line along that same transmission line route. The authorization will include ancillary improvements on National Forest System lands including towers, access roads to construct and maintain the line, and a fiber optical ground wire along the line as a secondary telecommunication path. This proposed action would involve lands managed by the Santa Clara/Mojave Rivers Ranger District, Angeles National Forest in portions of Sections within Township 5 North, Range 15 West; Township 5 North, Range 16 West; Township 6 North, Range 14 West; and Township 6 North, Range 15 West, San Bernardino Base and Meridian. This authorization would be part of the CPUC issuance of a Certificate of Public Convenience and Necessity to permit construction of the new 25.6-mile 500-kV transmission line along with the ancillary improvements.

The proposed transmission system off National Forest System lands includes three miles of new right-of-way, the relocation of sections of 66-kV and 12-kV facilities, and an expansion and upgrade of the Antelope Substation from 220 kV to 500 kV, including the physical expansion of the Antelope Substation by 31 acres. Ancillary improvements also include towers and the construction of two telecommunication paths between Antelope and Pardee substations. Lands other than National Forest System lands that would be impacted are located in portions of Sections within Township 4 North, Range 16 West; Township 7 North, Range 13 West; and, Township 7 North, Range 14 West, San Bernardino Base and Meridian. Construction activities associated with the proposed action would include grading areas to upgrade improvements to the Antelope Substation, 114 new towers, repairing existing access and spur roads along with the temporary use and construction of spur roads to approximately 20 tower locations, and the temporary use of approximately 24 new pulling locations and 15 new splicing locations.

The transmission line would be initially energized at 220 kV with the intent to help accommodate up to 4,400 megawatts (MW) of potential wind generation located north of Antelope, California in the future by energizing the system to 500 kV.

Purpose and Need for Action

The purpose for this action is to upgrade the transmission system from Antelope Substation located near Lancaster, California to the Pardee Substation located near Santa Clarita, California. The existing transmission path from the Antelope to Vincent (located south of Palmdale, California) substations is fully loaded (at capacity) and Southern California Edison has identified the need for additional transmission and substation facilities between the Antelope and Pardee substations. This upgrade is needed to aid in interconnecting and integrating energy generated from a proposed 201-MW wind project located 8.5 miles northwest of the Antelope Substation located near Lancaster, California into Southern California Edison's electrical system.

Background

Southern California Edison has proposed that the construction of a 500-kV transmission system would help to accommodate up to 4,400 MW of potential proposed wind generation that may be located north of Antelope, and would avoid the future construction, tearing down, and replacement of multiple 220-kV facilities with 500-kV facilities. The proposed 500-kV transmission line would prevent overloading of the existing transmission facilities in order to allow the 201 MW to be safely transferred to serve system load.

Under Sections 210 and 212 of the Federal Power Act (16 U.S.C. 824 (i) and (k)) and Sections 3.2 and 5.7 of the California Independent System Operator's Tariff, Southern California Edison is obligated to interconnect and integrate this wind energy project into its system. In addition, the 2001 National Energy Policy goals are to increase domestic energy supplies, modernize and improve our nation's energy infrastructure, and improve the reliability of the delivery of energy from its sources to points of use. Executive Order 13212 encourages increased production and transmission of energy in a safe and environmentally sound manner. According to Executive Order 13212, for energy related projects, agencies shall expedite their review of permits or take other actions as necessary to accelerate the completion of such projects. The agencies shall take such actions to the extent permitted by law and regulations, and where appropriate. Based on the 1987 Angeles National Forest Land and Resource Management Plan, the proposed route is within a designated utility corridor. The proposal complies with the Angeles National Forest Land and Resources Management Plan, which requires utility companies to upgrade size of transmission facilties to maximum capacity within existing corridors before new utility corridors are considered.

Possible Alternatives

Presently, the USDA Forest Service and the CPUC have identified preliminary action alternatives for consideration in the environmental analysis. The preliminary action alternatives include two other alternative routes for the proposed 500-kV transmission line, a construction alternative to locate all or portions of the proposed transmission line underground, and an alternative for the types and number of towers that would be used.

The alternatives currently under consideration (besides the proposed action) are:

• The No-Action Alternative, under which the proposed 500-kV transmission line would not be constructed and no expansion activities at the Antelope Substation would occur.

• The Los Angeles Department of Water and Power (LADWP) Transmission Line Route Alternative that would construct the 500-kV transmission line along a 22.8-mile alternative route between the Antelope and Pardee substations. The route would travel within portions of the existing LADWP right-of-way, and would traverse the Angeles National Forest for 14.4 miles.

• The Non-National Forest System Land Alternative that would avoid National Forest lands. This alternative will be developed during the environmental review process.

• The Underground Alternative that would construct all or portions of the 500-kV transmission line underground along the proposed project route.

• The Tower, Conductor, and Voltage Alternative that would use single-circuit, 500-kV towers along the entire project route in place of the double-circuit, 500-kV towers that have been proposed along portions of the route.

The final alternatives analyzed in detail will depend on the issues raised during public scoping and further investigation of the feasibility of alternatives.

Lead and Cooperating Agencies

The USDA Forest Service and the CPUC will be joint lead agencies in accordance with 40 CFR 1501.5(b), and are responsible for the preparation of the EIS/EIR. The Forest Service will serve as the lead agency under NEPA. The CPUC will serve as the lead agency under CEQA.

Scoping will determine if additional cooperating agencies are needed.

Responsible Official

The Forest Service responsible official for the preparation of the EIS/EIR is Jody Noiron, Forest Supervisor, Angeles National Forest, 701 N. Santa Anita Avenue, Arcadia, CA 91006.

Nature of Decision To Be Made

The Forest Supervisor for the Angeles National Forest will decide whether or not to have Southern California Edison remove the 66-kV line (along with the ancillary improvements) and authorize a 50-year term Special Use Easement for a 13-mile, 160-foot wide right-of-way for contruction, use, and maintenance of a 500-kV line along that same transmission line route (or alternate route). The authorization will include ancillary improvements on National Forest System lands needed to maintain this system (e.g., towers, roads, communication equipment). If this alternative is approved, the Forest Supervisor will also decide what mitigation measures and monitoring will be required. The Forest Supervisor will only make a decision regarding impacts on National Forest System lands. The Forest Supervisor will not have a decision to make if the CPUC selects an alternative for the Antelope-Pardee 500-kV Transmission Project that does not involve National Forest System lands.

Scoping Process

Public participation will be especially important at several stages during the analysis. The lead agencies will be seeking information, comments, and assistance from Federal, State, local agencies, and other individuals and organizations that may be interested in or affected by the proposed project. This input will be used in preparation of the draft EIS/EIR. The scoping process includes:

• Inviting the participation of affected Federal, State, and local agencies, and affected Native American tribes, the proponent of the action and other interested persons.

• Determining the scope and the significant issues to be analyzed in depth in the EIS.

• Identifying and eliminating from detailed study the issues that are not significant or that have been covered by prior environmental review.

• Indicating any public environmental assessments and other EISs that are being or will be prepared that are related to but are not part of the scope of this impact statement.

• Identifying potential environmental effects of the alternatives identified to date. Two scoping meetings are proposed to provide information about the proposed project to the public and to allow people to comment on the proposed project. The scoping meetings will be held on the following dates, locations and times: Desert Inn Hotel, June 29, 2005, 6:30 p.m., 44219 Sierra Highway, Lancaster, CA 93534; Santa Clarita Activity Center, July 14, 2005, 6:30 p.m., 20880 Centre Point Parkway, Santa Clarita, CA 91350.

Preliminary Issues

A number of potential impacts were identified in the Proponent's Environmental Assessment Antelope Transmission Project, Segment 1 issued by Southern California Edison on December 9, 2004. The following preliminary issues were identified in this report related to the proposed project: Visual impacts; air quality impacts; impacts to biological, cultural, and geological resources; impacts resulting from hazards and hazardous materials; impacts to hydrology and water quality; land use and noise impacts; impacts to public services and utilities; recreation impacts; and impacts to traffic and transportation. Other issues identified are impacts to future forest management projects (e.g., fuel hazard reduction projects and fire fighting strategies), Electric and Magnetic Fields and Health Effects, and impacts from noxious weeds.

Permits or Licenses Required

A 50-year term Special Use Easement for the construction, maintenance, and use of the 500-kV transmission line would be authorized to Southern California Edison by the Regional Director of Natural Resource Management of the Forest Service, and a Certificate of Public Convenience and Necessity would be issued by the California Public Utility Commission as part of this decision. Additional permits that may be required of Southern California Edison to construct the proposed project could include: A Permit to Operate issued by the South Coast Air Quality Management District, a National Pollutant Discharge Elimination System General Construction Permit issued by California's Regional Water Quality Control Board, a Section 404 Permit (per Section 404 of the Clean Water Act) issued by the U.S. Army Corps of Engineers, and a Streambed Alteration Agreement ( per Section 1601 of the California Fish and Game Code) issued by the California Department of Fish and Game.

Comment Requested

This notice of intent initiates the scoping process that guides the development of the EIS/EIR. The Forest Service is seeking public and agency comment on the proposed project to identify major issues to be analyzed in depth and assistance in identifying potential alternatives to be evaluated. Comments received to this notice, including the names and addresses of those who comment, will be considered as part of the public record on this proposed project, and will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality. Where the request is denied, the agency will return the submission and notify the requester that the comments may be resubmitted, without names and addresses, within a specified number of days.

Early Notice of Importance of Public Participation in Subsequent Environmental Review

A draft EIS/EIR will be prepared for comment. The comment period on the draft EIS/EIR will be 45 days from the date the Environmental Protection Agency publishes the notice of availability in the Federal Register.

The Forest Service believes, at this early stage, that it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft environmental EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS/EIR.

To assist the Forest Service in identifying and considering issues and concerns on the proposed project, comments on the draft EIS/EIR should be as specific as possible. It is also helpful if comments refer to specific pages or chapters of the draft statement. Comments may also address the adequacy of the draft EIS/EIR or the merits of the alternatives formulated and discussed in the statement. Reviewers may wish to refer to the Council on Environmental Quality Regulations for implementing the procedural provisions of NEPA at 40 CFR 1503.3 in addressing these points.

(Authority: 40 CFR 1501.7 and 1508.22; Forest Service Handbook 1909.15, Section 21)

Dated: June 22, 2005.
Susan R. Swinson,
Acting Forest Supervisor.

[FR Doc. 05-12691 Filed 6-27-05; 8:45 am]

BILLING CODE 3410-11-P